DEPARTMENT OF JUSTICE

Antitrust Division

Notice Pursuant to the National Cooperative Research and Production Act of 1993—Joint Venture To Perform Project Entitled Next Generation SCADA for Prevention and Mitigation of Water System Infrastructure Disaster

Notice is hereby given that, on April 22, 2009, pursuant to Section 6(a) of the National Cooperative Research and Production Act of 1993, 15 U.S.C. 4301 et seq. (“the Act”), Joint Venture to Perform Project Entitled Next Generation SCAIJA for Prevention and Mitigation of Water System Infrastructure Disaster (“Next Generation SCADA”) has filed written notifications simultaneously with the Attorney General and the Federal Trade Commission disclosing (1) the identities of the parties and (2) the nature and objectives of the venture. The notifications were filed for the purpose of invoking the Act's provisions limiting the recovery of antitrust plaintiffs to actual damages under specified circumstances.

Pursuant to Section 6(b) of the Act, the identities of the parties to the venture are: Earth Mechanics, Inc., Fountain Valley, CA; Irvine Ranch Water District, Irvine, CA; Orange County Sanitation District, Fountain Valley, CA; Santa Ana Watershed Project Authority, Riverside, CA and The Regents of the University of California, Irvine, CA.

The general area of Next Generation SCADA's planned activity is to develop a novel monitoring and inspection system for large water pipe networks with the ability not only to detect a fracture or failure in a pipeline but also to evaluate in real time the remaining useful life at the original design capacity in the damaged system. This system will enable more effective and strategic planning of repair operations and maintenance. The project success will aid in extending the useful life and reliability of the water system infrastructure.

The activities of this joint venture project will be partially funded by award 70NANB9H9013 from the Technology Innovation Program, National Institute of Standards and Technology, U.S. Department of Commerce.

Patricia A. Brink,
Deputy Director of Operations, Antitrust Division.

[FR Doc. E9-13925 Filed 6-12-09; 8:45 am]

BILLING CODE 4410-11-M